DEPARTMENT OF COMMERCE

National Oceanic and Atmospheric Administration

RIN 0648-XZ47

Endangered and Threatened Species; 5-Year Review

AGENCY: National Marine Fisheries Service (NMFS), National Oceanic and Atmospheric Administration (NOAA), Commerce.

ACTION: Notice of availability of a 5-year review for the U.S. Distinct Population Segment (DPS) of smalltooth sawfish.

SUMMARY: NMFS announces the availability of a 5-year review of the U.S. DPS of smalltooth sawfish (Pristis pectinata) as required by the Endangered Species Act of 1973 (ESA). The U.S. DPS of smalltooth sawfish is listed as endangered under the ESA. Based on the best available scientific and commercial data, our 5-year review indicates that the U.S. DPS of smalltooth sawfish should remain listed as endangered species because it is in danger of extinction throughout its range. Therefore, the 5-year review recommends no change in listing.

ADDRESSES: Additional information about the 5-year review may be obtained by writing to Ms. Shelley Norton, NMFS, Southeast Regional Office, Protected Resources Division, 263 13th Avenue South, St. Petersburg, FL 33701 or send an electronic message to Shelley.norton@noaa.gov. Electronic copies of the 5-year review are available online at the NMFS Southeast Regional Office Web site: http://sero.nmfs.noaa.gov/pr/SmalltoothSawfish.htm.

FOR FURTHER INFORMATION CONTACT: Shelley Norton, telephone (727) 824-5312.

SUPPLEMENTARY INFORMATION:

Background

Under the ESA, a list of endangered and threatened wildlife and plant species must be maintained. The list is published at 50 CFR 17.11 (for animals) and 17.12 (for plants). Section 4(c)(2) of the ESA requires that NMFS conduct a review of listed species at least once every five years, and on the basis of such review, determine whether any species should be removed from the List (delisted), or reclassified from endangered to threatened or from threatened to endangered. A 5-year review considers the best available scientific and commercial data, including all new information that has become available since the listing determination or most recent status review for a species.

NMFS initiated the 5-year review of the U.S. DPS of smalltooth sawfish in May 2008, and solicited information from the public (73 FR 29483; May 21, 2008). NMFS incorporated two comments provided by the Everglades National Park and Biscayne National Park and the comments provided by scientific peer reviewers. NMFS concludes that the 5-year review meets the requirements of the ESA.

Authority: 16 U.S.C. 1531 et seq.

Dated: October 26, 2010.
Therese Conant,
Acting Chief, Endangered Species Division, Office of Protected Resources, National Marine Fisheries Service.

[FR Doc. 2010-27450 Filed 10-28-10; 8:45 am]

BILLING CODE 3510-22-P